CORPORATION FOR NATIONAL AND COMMUNITY SERVICE

Agency Information Collection Activities; Submission to the Office of Management and Budget for Review and Approval; Comment Request; Application Package for Learning Management System (LMS) Pre- and Post-Test Assessment Questions

AGENCY: Corporation for National and Community Service (CNCS).

ACTION: Notice of Information Collection; request for comment.

SUMMARY: In accordance with the Paperwork Reduction Act of 1995, CNCS is seeking approval for a new information collection.

DATES: Written comments must be submitted to the individual and office listed in the ADDRESSES section by May 11, 2018.

ADDRESSES: You may submit comments, identified by the title of the information collection activity, by any of the following methods:

(1) By mail sent to: Corporation for National and Community Service, Attention Adrienne DiTommaso, 250 E Street SW, Washington, DC, 20525.

(2) By hand delivery or by courier to the CNCS mailroom at the mail address given in paragraph (1) above, between 9:00 a.m. and 4:00 p.m. Eastern Time, Monday through Friday, except federal holidays.

(3) Electronically through www.regulations.gov.

Comments submitted in response to this notice may be made available to the public through regulations.gov. For this reason, please do not include in your comments information of a confidential nature, such as sensitive personal information or proprietary information. If you send an email comment, your email address will be automatically captured and included as part of the comment that is placed in the public docket and made available on the internet. Please note that responses to this public comment request containing any routine notice about the confidentiality of the communication will be treated as public comment that may be made available to the public notwithstanding the inclusion of the routine notice.

FOR FURTHER INFORMATION CONTACT: Adrienne DiTommaso, 202-606-3611, or by email at aditommaso@cns.gov.

SUPPLEMENTARY INFORMATION:

Title of Collection: Learning Management System (LMS) Pre- and Post-test Assessment Questions.

OMB Control Number: TBD.

Type of Review: New.

Respondents/Affected Public: Corporation for National and Community Service grantees.

Total Estimated Number of Annual Respondents: 100.

Total Estimated Annual Frequency: 12.

Total Estimated Average Response Time per Response: 5 minutes per course; 12 courses in total = 60 minutes or 1 hour maximum across all courses.

Total Estimated Number of Annual Burden Hours: 100 hours; 60 minutes × 100 respondents (max.) = 6000 minutes or 100 hours.

Total Burden Cost (capital/startup): None.

Total Burden Cost (operating/maintenance): None.

Abstract: The Corporation for National and Community Service (CNCS) has procured a Learning Management System (LMS) to enhance training and technical assistance at the agency. The Office of Research and Evaluation (ORE) is using this tool to enhance existing methods of teaching and learning about program evaluation and research topics. ORE has programmed 12 Evaluation Core Curriculum courses on the LMS for users to explore interactively. In order to enhance the utility of the courses, ORE would like implement knowledge checks in the form of topically focused pre/post-test questions so that participants can identify knowledge gaps that need to be addressed with further learning. This will also enable ORE to see where common learning issues arise, and where additional resources should be targeted. CNCS also seeks to continue using the currently approved pre/post-test questions, which were cleared under a generic clearance, until the current information collection is approved by OMB. The currently approved information collection expired on October 31, 2017.

Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. All written comments will be available for public inspection on regulations.gov.

Dated: March 2, 2018.
Mary Hyde,
Director of the Office of Research and Evaluation.

[FR Doc. 2018-04881 Filed 3-9-18; 8:45 am]

BILLING CODE 6050-28-P